DEPARTMENT OF TRANSPORTATION

Federal Aviation Administration

Agency Information Collection Activities: Requests for Comments; Clearance of a New Approval of Information Collection: Carbon Offsetting and Reduction Scheme for International Aviation (CORSIA) Monitoring, Reporting, and Verification (MRV) Program

AGENCY: Federal Aviation Administration (FAA), DOT.

ACTION: Notice and request for comments.

SUMMARY: In accordance with the Paperwork Reduction Act of 1995, FAA invites public comments about our intention to request the Office of Management and Budget (OMB) approval for a new information collection. The collection involves a request that airplane operators subject to the applicability of Annex 16, Volume IV of the Convention on Civil Aviation (hereinafter the “Chicago Convention”) submit electronically an Emissions Monitoring Plan (EMP) and an annual Emissions Report (ER) to the FAA. The information to be collected is necessary because FAA will use the information to fulfill the United States' responsibilities under the Chicago Convention.

DATES: Written comments should be submitted by July 1, 2019.

ADDRESSES: Please send written comments:

By Electronic Docket: www.regulations.gov (Enter docket number into search field).

By mail: Daniel Williams, Federal Aviation Administration, AEE-400, 800 Independence Ave. SW, Washington, DC 20591.

FOR FURTHER INFORMATION CONTACT: Daniel Williams by email at: daniel.williams@faa.gov; phone: 202-267-7988.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: CORSIA Monitoring, Reporting, and Verification (MRV) Program.

Form Numbers: Not Applicable.

Type of Review: Clearance of a new information collection.

Background: The CORSIA MRV Program is a voluntary program for certain U.S. air carriers and commercial operators (collectively referred hereinafter as “operators”) to submit certain airplane CO2 emissions data to the FAA to enable the United States to establish uniformity with ICAO Standards And Recommended Practices (SARPs) for CORSIA, which were adopted in June 2018, as Annex 16, Volume IV to the Chicago Convention. The United States supported the decision to adopt the CORSIA SARPs based on the understanding that CORSIA is the exclusive market-based measure applying to international aviation, and that CORSIA will ensure fair and reciprocal commercial competition by avoiding a patchwork of country- or regionally-based regulatory measures that are inconsistently applied, bureaucratically costly, and economically damaging. Furthermore, continued U.S. support for CORSIA assumes a high level of participation by other countries, particularly by countries with significant aviation activity, as well as a final CORSIA package that is acceptable to, and implementable by, the United States.

Under CORSIA, all ICAO Member States whose airplane operators undertake international flights will need to develop a MRV system for CO2 emissions from those international flights starting January 1, 2019. The FAA's CORSIA MRV Program is intended to be the United States' MRV system for monitoring, reporting, and verification of U.S. airplane operator CO2 emissions from international flights.

Operators that are subject to the applicability of CORSIA will submit their EMPs and ERs electronically.¹ Both documents use Microsoft Excel-based templates and can be transmitted via email or uploaded to a web portal. EMPs that are submitted by operators will be used as a collaborative tool between the operator and FAA to document a given operator's chosen fuel use monitoring procedures. FAA will retain a copy of the EMP and will share with ICAO a list of operators that submit EMPs. FAA will not submit any specific EMPs from U.S. operators to ICAO. Large operators, i.e., those emitting 500,000 metric tons or more of CO2 per year, will gather data through a “fuel use monitoring method.” Small operators, i.e., those emitting less than 500,000 metric tons of CO2 per year, can use a simplified monitoring method. Annual ERs that are submitted to FAA by operators and verifiers will be used to document each operators' international emissions. FAA will use the ERs to calculate aggregated emissions data for all U.S. operators. FAA will submit the aggregated emissions data to ICAO to demonstrate U.S. implementation of CORSIA.

¹ CORSIA applies to airplane operators that produce annual CO2 emissions greater than 10,000 tonnes (i.e., 10,000 metric tons) from international flights, excluding emissions from excluded flights. The following activities are excluded CORSIA:

—Domestic flights;

—Humanitarian, medical, and firefighting operations, including flight(s) preceding or following a humanitarian, medical, or firefighting flight provided such flight(s) were conducted with the same airplane, were required to accomplish the related humanitarian, medical, or firefighting activities or to reposition thereafter the airplane for its next activity;

—Operations using an airplane with a maximum certificated take-off mass equal to or less than 5,700 kg;

—Operations on behalf of the military.

Respondents: Respondents will be airplane operators subject to the applicability of Annex 16, Volume IV of the Chicago Convention. From the outset, FAA expects between 11 and 49 operators to submit an EMP and ER. Some additional operators could submit an EMP and ER over time based on their international aviation activities.

Frequency: An EMP is a one-time submission. An ER is an annual submission.

Estimated Average Burden per Response: FAA expects that filling and submitting an EMP could take approximately 8 hours. FAA expects that for operators using a Fuel Use Monitoring Method, the reporting hour burden could be approximately 43 hours per operator, per year. For operators using a simplified Monitoring Method, the reporting hour burden could be approximately 29 hours per operator, per year.

Estimated Total Annual Burden: Based on the above, FAA expects that the annual submission of an ER could take approximately 29 to 43 hours for each of the 11 to 49 operators.

Issued in Washington, DC, on April 24, 2019.
Kevin Welsh,
Executive Director, Office of Environment and Energy.

[FR Doc. 2019-08684 Filed 4-29-19; 8:45 am]

BILLING CODE 4910-13-P